DEPARTMENT OF COMMERCE

National Oceanic and Atmospheric Administration

[XRIN: 0648-XA50]

South Atlantic Fishery Management Council; Public Meetings; Addendum

AGENCY: National Marine Fisheries Service (NMFS), National Oceanic and Atmospheric Administration (NOAA), Commerce.

ACTION: Addendum to Earlier Notice - South Atlantic Fishery Management Council to meet June 10-15, 2007 meeting in Key West, FL.

SUMMARY: In addition to the items noted in the earlier Notice for the June 10-15, 2007 meeting of the South Atlantic Fishery Management Council (Council), the Council's Snapper Grouper Committee and full Council will also consider the establishment of a control date of March 8, 2007 for all for-hire permits in the South Atlantic Council's area of authority. There is concern of increased participation in the for-hire fishery, in addition to decreasing infrastructure. The Snapper Grouper Committee will provide recommendations to the Council and the Council will take action as appropriate.

DATES: The meeting will be held in June 2007. See SUPPLEMENTARY INFORMATION for specific dates and times.

ADDRESSES: The meeting will be held at the Doubletree Grand Key Resort, 3990 S. Roosevelt Boulevard, Key West, FL, 33040; telephone: (1-800) 222-8733 or (305) 293-1818.

Council address: South Atlantic Fishery Management Council, 4055 Faber Place Drive, Suite 201, North Charleston, SC 29405.

FOR FURTHER INFORMATION CONTACT: Kim Iverson, Public Information Officer; telephone: (843) 571-4366 or toll free at (866) SAFMC-10; fax: (843) 769-4520; email: kim.iverson@safmc.net.

SUPPLEMENTARY INFORMATION: The original notice published on May 23, 2007 (72 FR 28957).

Meeting Dates

Snapper Grouper Committee Meeting: June 12, 2007, 8 a.m. until 4 p.m.

Council Session: June 14, 2007, 3:30 p.m. until 6 p.m. and June 15, 2007, 8 a.m. until 12 noon.

The Council is scheduled to receive a report from the Snapper Grouper Committee June 14, 2007 from 4:45 p.m. until 5:30 p.m.

Documents regarding these issues are available from the Council office (see ADDRESSES).

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) 2 days prior to the beginning of the meeting.

Dated: May 29, 2007.
Tracey L. Thompson,
Acting Director, Office of Sustainable Fisheries, National Marine Fisheries Service.

[FR Doc. E7-10599 Filed 5-31-07; 8:45 am]

BILLING CODE 3510-22-S